DEPARTMENT OF LABOR

Employment and Training Administration

[TA-W-59,418]

Glomar Steel Company; Synergy Staffing, Incorporated; Ecorse, MI; Notice of Termination of Investigation

Pursuant to Section 221 of the Trade Act of 1974, an investigation was initiated on May 18, 2006, in response to a petition filed by the Highland Park Service Center, MiWorks on behalf of workers at Glomar Steel Company/Synergy Staffing, Incorporated, Ecorse, Michigan.

This investigation revealed that the Highland Park Service Center, MiWorks did not file this petition. The petition was filed by a worker who was employed by Synergy Staffing, Incorporated. The petition has been deemed invalid. Consequently, the investigation has been terminated.

Signed in Washington, DC, this 25th day of May 2006.
Elliott S. Kushner,
Certifying Officer, Division of Trade Adjustment Assistance.

[FR Doc. E6-9023 Filed 6-8-06; 8:45 am]

BILLING CODE 4510-30-P